DEPARTMENT OF LABOR

Employment and Training Administration

TA-W-73,381, MT Rail Link, Inc., Missoula, MT; TA-W-73,381A, Billings, MT; TA-W-73,381B, Laurel, MT; TA-W-73,381C, Livingston, MT; TA-W-73,381D, Helena, MT; Amended Certification Regarding Eligibility To Apply for Worker Adjustment Assistance

In accordance with section 223 of the Trade Act of 1974, as amended (“Act”), 19 U.S.C. 2273, the Department of Labor issued a Certification of Eligibility to Apply for Worker Adjustment Assistance on June 23, 2010, applicable to workers of Montana Rail Link, Inc., Missoula, Montana. The Department's Notice of determination was published in the Federal Register on July 7, 2010 (75 FR 39049).

At the request of the State Agency, the Department reviewed the certification for workers of the subject firm. The workers are downstream producers for a firm whose workers are certified as eligible to apply for Trade Adjustment Assistance (TAA).

The review shows that Montana Rail Link, Inc. has corporate offices in Missoula, Montana and operations facilities (yards) in Billings, Laurel, Livingston, Helena and Missoula, Montana. The Billings, Laurel, Livingston, and Helena facilities operate in conjunction with the Missoula facility, and are similarly impacted by the loss of business with the firm whose workers are certified as eligible to apply for TAA.

Based on these findings, the Department is amending this certification to include workers of Montana Rail Link, Inc. at facilities in Billings, Laurel, Livingston, and Helena, Montana.

The amended notice applicable to TA-W-73,381 is hereby issued as follows:

All workers of Montana Rail Link, Inc., Missoula, Montana (TA-W-73,381), Billings, Montana (TA-W-73,381A), Laurel, Montana (TA-W-73,381B), Livingston, Montana (TA-W-73,381C), and Helena, Montana (TA-W-73,381D), who became totally or partially separated from employment on or after January 26, 2009 through June 23, 2012, and all workers in the group threatened with total or partial separation, on or after June 23, 2010 through June 23, 2012, are eligible to apply for adjustment assistance under chapter 2 of Title II of the Trade Act of 1974, as amended.

Signed in Washington, DC, this 8th day of July 2010.
Del Min Amy Chen,
Certifying Officer, Division of Trade Adjustment Assistance.

[FR Doc. 2010-18192 Filed 7-23-10; 8:45 am]

BILLING CODE 4510-FN-P